DEPARTMENT OF THE TREASURY

Office of the Comptroller of the Currency

Agency Information Collection Activities: Information Collection Renewal; Comment Request; Community Reinvestment Act Regulations

AGENCY: Office of the Comptroller of the Currency (OCC), Treasury.

ACTION: Notice and request for comment.

SUMMARY: The OCC, as part of its continuing effort to reduce paperwork and respondent burden, invites the general public and other federal agencies to take this opportunity to comment on a continuing information collection as required by the Paperwork Reduction Act of 1995 (PRA).

In accordance with the requirements of the PRA, the OCC may not conduct or sponsor, and the respondent is not required to respond to, an information collection unless it displays a currently valid Office of Management and Budget (OMB) control number.

The OCC is soliciting comment concerning the renewal of its information collection titled “Community Reinvestment Act Regulations.”

DATES: Comments must be submitted on or before August 4, 2017.

ADDRESSES: Because paper mail in the Washington, DC area and at the OCC is subject to delay, commenters are encouraged to submit comments by email, if possible. Comments may be sent to: Legislative and Regulatory Activities Division, Office of the Comptroller of the Currency, Attention: 1557-0160, 400 7th Street SW., Suite 3E-218, Washington, DC 20219. In addition, comments may be sent by fax to (571) 465-4326 or by electronic mail to prainfo@occ.treas.gov. You may personally inspect and photocopy comments at the OCC, 400 7th Street SW., Washington, DC 20219. For security reasons, the OCC requires that visitors make an appointment to inspect comments. You may do so by calling (202) 649-6700 or, for persons who are deaf or hard of hearing, TTY, (202) 649-5597. Upon arrival, visitors will be required to present valid government-issued photo identification and submit to security screening in order to inspect and photocopy comments.

All comments received, including attachments and other supporting materials, are part of the public record and subject to public disclosure. Do not include any information in your comment or supporting materials that you consider confidential or inappropriate for public disclosure.

FOR FURTHER INFORMATION CONTACT: Shaquita Merritt, OCC Clearance Officer, (202) 649-5490 or, for persons who are deaf or hard of hearing, TTY, (202) 649-5597, Legislative and Regulatory Activities Division, Office of the Comptroller of the Currency, 400 7th Street SW., Washington, DC 20219.

SUPPLEMENTARY INFORMATION: Under the PRA (44 U.S.C. 3501-3520), federal agencies must obtain approval from OMB for each collection of information that they conduct or sponsor. “Collection of information” is defined in 44 U.S.C. 3502(3) and 5 CFR 1320.3(c) to include agency requests or requirements that members of the public submit reports, keep records, or provide information to a third party. Section 3506(c)(2)(A) of title 44 requires federal agencies to provide a 60-day notice in the Federal Register concerning each proposed collection of information, including each proposed renewal of an existing collection of information, before submitting the collection to OMB for approval. To comply with this requirement, the OCC is publishing notice of the renewal of the collection of information set forth in this document.

Title: Community Reinvestment Act Regulations.

OMB Control No.: 1557-0160.

Description: The Community Reinvestment Act (CRA) requires the federal banking agencies ¹ (Agencies) to assess the record of regulated financial institutions (institutions) in helping to meet the credit needs of their entire communities, including low- and moderate-income neighborhoods, consistent with safe and sound operations. The CRA further requires the Agencies to take this record into account in evaluating applications for mergers, branches, and certain other corporate activities.² The CRA statute requires the Agencies to issue regulations to carry out its purposes.³

¹ OCC, Board of Governors of the Federal Reserve System, and Federal Deposit Insurance Corporation.

² 12 U.S.C. 2903.

³ 12 U.S.C. 2905.

Each agency must provide written CRA performance evaluations (CRA PE) of the institutions they supervise. The CRA PEs are disclosed to the public. The public portion of each written CRA PE must present the agency's conclusions with respect to the CRA performance standards identified in its regulations; including the facts and data supporting those conclusions; and contain the institution's CRA rating and the basis for that rating.

The reporting, recordkeeping, and disclosure requirements in the CRA regulations are necessary, as they provide the Agencies with the information they need to examine, assess, and assign ratings reflecting institutions' CRA performance and to prepare the public section of the CRA PE.

The OCC's CRA regulation, 12 CFR 25, applies to national banks, including federal branches, as those are defined in 12 CFR 28, with federally insured deposits, except as provided in 12 CFR 25.11, (collectively, banks). Similarly, the OCC's CRA regulation, 12 CFR 195, applies to savings associations, except as provided in 12 CFR 195.11.

Twelve CFR 25.25(b) and 195.25(b) provide that requests for designation as a wholesale or limited purpose bank or savings association must be made in writing with the OCC at least three months prior to the proposed effective date of the designation.

Twelve CFR 25.27 and 195.27 provide for optional submission of strategic plans to the OCC for approval. If the requirements of 12 CFR 25.27(a) or 195.27(a), respectively, are met, institutions' records of helping to meet the credit needs of their assessment areas will be assessed under their approved strategic plans.

Twelve CFR 25.42(a) and 195.42(a) require that large banks and savings associations ⁴ shall collect and maintain certain small business/small farm loan data in a machine-readable form and report it annually pursuant to 12 CFR 25.42(b)(1) and 195.42(b)(1).

⁴ Large banks and large savings associations are banks and savings associations that are not small banks or small savings associations defined in 12 CFR 25.12(u) or 195.12(u), respectively.

Twelve CFR 25.42(b)(2) and 195.42(b)(2) require that large banks and savings associations report annually in machine readable form the aggregate number and aggregate amount of community development loans originated or purchased.

Twelve CFR 25.42(b)(3) and 195.42(b)(3) require that large banks and savings associations, if subject to reporting under 12 CFR 1003 (Home Mortgage Disclosure (Regulation C)), must report the location of each home mortgage loan application, origination, or purchase outside the metropolitan statistical area(s) in which the bank or savings association has a home/branch office, and the location of each home mortgage loan application, origination, or purchase outside any metropolitan statistical area, in accordance with the requirements of Regulation C.

Twelve CFR 25.42(c)(1) and 195.42(c)(1) provide that all banks and savings associations may collect and maintain in machine readable form certain data for consumer loans originated or purchased by a bank or savings association for consideration under the lending test. Under 12 CFR 25.42(c)(2) and 195.42(c)(2), all banks and saving associations may include other information concerning their lending performance, including additional loan distribution data.

Twelve CFR 25.42(d) and 195.42(d) provide that banks and savings associations that elect to have the OCC consider loans by an affiliate, for purposes of the lending or community development test or an approved strategic plan, shall collect, maintain, and report the data that the bank or savings association would have collected, maintained, and reported pursuant to 12 CFR 25.42(a)-(c) or 195.42(a)-(c), respectively, had the loans been originated or purchased by the bank or savings association. For home mortgage loans, the bank or savings association must also be prepared to identify the home mortgage loans reported under HMDA by the affiliate.

Twelve 12 CFR 25.42(e) and 195.42(e) provide that banks and savings associations that elect to have the OCC consider community development loans by a consortium or a third party, for purposes of the lending or community development tests or an approved strategic plan, must report for those loans the data that the bank or savings association would have reported under 12 CFR 25.42(b)(2) or 195.42(b)(2), respectively, had the loans been originated or purchased by the bank or savings association.

Twelve CFR 25.42(g) and 195.42(g) require that banks and savings associations, except those that were a small bank or small savings association ⁵ during the prior calendar year, collect and report to the OCC a list for each assessment area showing the geographies within the area.

⁵ See 12 CFR 25.12(u) and 195.12(u), respectively.

Twelve CFR 25.43 and 195.43 generally require that all banks and savings associations maintain a public file that contains: All written comments and responses; a copy of the public section of the bank's or savings association's most recent CRA performance evaluation; a list of the bank's or savings association's branches; a list of the branches opened or closed; a list of services offered; and a map of each assessment area delineated by the bank or savings association under 12 CFR 25.41 or 195.41, respectively. Certain banks and savings associations must include: A copy of their approved strategic plan and a description of the current efforts to improve their performance in helping to meet the credit needs of its entire community. Certain large banks and savings associations must include in their public files (for prior two years): Consumer loan data; CRA Disclosure Statements; and Home Mortgage Disclosure Act (HMDA) Disclosure Statements. Small banks and savings associations must include their loan-to-deposit ratio for each quarter of the prior calendar year and, at their option, additional data on its loan-to-deposit ratio.

Type of Review: Regular review.

Affected Public: Businesses or other for-profit.

Frequency of Response: On occasion.

Estimated Number of Respondents: 1,234.

Estimated Total Annual Burden: 113,351 hours.

Comments submitted in response to this notice will be summarized and included in the request for OMB approval. All comments will become a matter of public record. Comments are invited on:

(a) Whether the collection of information is necessary for the proper performance of the functions of the OCC, including whether the information has practical utility;

(b) The accuracy of the OCC's estimate of the burden of the information collection;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: May 30, 2017.
Karen Solomon,
Deputy Chief Counsel, Office of the Comptroller of the Currency.

[FR Doc. 2017-11550 Filed 6-2-17; 8:45 am]

BILLING CODE 4810-33-P